ENVIRONMENTAL PROTECTION AGENCY

40 CFR Part 59

[EPA-HQ--OAR-2006-0971; FRL-8544-1]

RIN 2060-AO86

National Volatile Organic Compound Emission Standards for Aerosol Coatings

AGENCY: Environmental Protection Agency (EPA).

ACTION: Proposed rule.

SUMMARY: The EPA is proposing to amend the National Volatile Organic Compound Emission Standards for Aerosol Coatings final rule, published elsewhere in this Federal Register, which is a rule that establishes national reactivity-based emission standards for the aerosol coatings category (aerosol spray paints) under the Clean Air Act (CAA). In the “Rules and Regulations” section of this Federal Register, we are making these same amendments as a direct final rule without a prior proposed rule. If we receive no adverse comment, we will not take further action on this proposed rule.

DATES: Comments. Written comments must be received by April 23, 2008. Public Hearing. If anyone contacts EPA requesting to speak at a public hearing concerning the proposed regulation by April 3, 2008, we will hold a public hearing on April 8, 2008. Additional information about the opportunity for a public hearing is contained in the direct final rule located in the rules section of this Federal Register.

ADDRESSES: Comments. Submit your comments, identified by Docket ID No. EPA-HQ-OAR-2007-0429 by mail to National Volatile Organic Compound Emission Standards for Aerosol Coatings, Environmental Protection Agency, Mailcode: 2822T, 1200 Pennsylvania Ave., NW., Washington, DC 20460. Please include a total of two copies. Comments may also be submitted electronically or through hand delivery/courier by following the detailed instructions in the ADDRESSES section of the direct final rule located in the rules section of this Federal Register.

FOR FURTHER INFORMATION CONTACT: For further information, contact Ms. J. Kaye Whitfield, U.S. EPA, Office of Air Quality Planning and Standards, Sector Policies and Programs Division, Natural Resources and Commerce Group (E143-03), Research Triangle Park, NC 27711; telephone number (919) 541-2509; facsimile number (919) 541-3470; e-mail address: whitfield.kaye@epa.gov. For information concerning the CAA section 183(e) consumer and commercial products program, contact Mr. Bruce Moore, U.S. EPA, Office of Air Quality Planning and Standards, Sector Policies and Programs Division, Natural Resources and Commerce Group (E143-03), Research Triangle Park, North Carolina 27711, telephone number: (919) 541-5460, facsimile number (919) 541-3470, e-mail address: moore.bruce@epa.gov.

SUPPLEMENTARY INFORMATION:

I. Why Is EPA Issuing This Proposed Rule?

This document proposes to take action on the National Emission Standards for Aerosol Coatings to clarify and amend certain explanatory and regulatory text in the rule concerning how compounds are added to the lists in Tables 2A, 2B and 2C, and when distributors and retailers are regulated entities responsible for compliance with the final rule. We have published a direct final rule to make these same amendments in the “Rules and Regulations” section of this Federal Register because we view this as a non-controversial action and anticipate no adverse comment. We have explained our reasons for this action in the preamble to the direct final rule.

If we receive no adverse comment, we will not take further action on this proposed rule. If we receive adverse comment, we will withdraw the direct final rule, and it will not take effect. We would address all public comments in any subsequent final rule base on this proposed rule.

We do not intend to institute a second comment period on this action. Any parties interested in commenting must do so at this time.

The regulatory text for the proposal is identical to that for the direct final rule published in the “Rules and Regulations” section of this Federal Register. For further supplementary information, the detailed rationale for the proposal and the regulatory revisions, see the direct final rule published in a separate part of this Federal Register.

II. Does This Action Apply to Me?

The entities potentially affected by this proposed rule are the same entities that are subject to the Aerosol Coatings final rule, published elsewhere in this Federal Register. The entities affected by the Aerosol Coatings final rule, published elsewhere in this Federal Register, include: Manufacturers, processors, distributors, importers of aerosol coatings for sale or distribution in the United States, and manufacturers, processors, distributors, or importers who supply the entities listed above with aerosol coatings for sale or distribution in interstate commerce in the United States.

III. Statutory and Executive Order Reviews

For a complete discussion of all the administrative requirements applicable to this action, see the Direct Final Rule in the Rules and Regulations section of this Federal Register.

List of Subjects in 40 CFR Part 59

Environmental protection, Administrative practice and procedure, Air pollution control, Intergovernmental relations, Reporting and recordkeeping requirements.

Dated: March 13, 2008.
Stephen L. Johnson,
Administrator.

[FR Doc. E8-5588 Filed 3-21-08; 8:45 am]

BILLING CODE 6560-50-P